DEPARTMENT OF TRANSPORTATION

Federal Aviation Administration (FAA)

Notice of Opportunity for Public Comment on Surplus Property Release at Jackson International Airport, Jackson, MS

AGENCY: Federal Aviation Administration (FAA), DOT.

ACTION: Notice of intent to rule on land release request.

SUMMARY: Under the provisions of Title 49, U.S.C. 47153(c), notice is being given that the FAA is considering a request from the Jackson Municipal Airport Authority to waive the requirement that a 9.13-acre parcel, a 0.13-acre parcel, and a 20.54-acre parcel of surplus property, located at the Jackson International Airport, be used for aeronautical purposes.

DATES: Comments must be received on or before August 31, 2009.

ADDRESSES: Comments on this notice may be mailed or delivered in triplicate to the FAA at the following address: Jackson Airports District Office, 100 West Cross Street, Suite B, Jackson, MS 39208-2307.

In addition, one copy of any comments submitted to the FAA must be mailed or delivered to Mr. Dirk B. Vanderleest, Executive Director, Jackson Municipal Airport Authority, Jackson, MS, at the following address: P.O. Box 98109, Jackson, MS 39298-8109.

FOR FURTHER INFORMATION CONTACT: David Shumate, Program Manager, Jackson Airports District Office, 100 West Cross Street, Suite B, Jackson, MS 39208-2307, (601) 664-9882. The land release request may be reviewed in person at this same location.

SUPPLEMENTARY INFORMATION: The FAA is reviewing a request by Jackson Municipal Airport Authority to release 29.8 acres of airport property at the Jackson International Airport. The property will be purchased by the Mississippi Department of Transportation to construct the airport parkway corridor. The net proceeds from the sale of this property will be used for airport capital improvement projects.

Any person may inspect the request in person at the FAA office listed above under FOR FURTHER INFORMATION CONTACT. In addition, any person may, upon request, inspect the request, notice and other documents germane to the request in person at the Jackson International Airport, Jackson, Mississippi.

Issued in Jackson, Mississippi on July 17, 2009.
Rans D. Black,
Manager, Jackson Airports District Office, Southern Region.

[FR Doc. E9-18141 Filed 7-29-09; 8:45 am]

BILLING CODE 4910-13-M